FEDERAL TRADE COMMISSION

Privacy Act of 1974; System of Records Notices; Correction

AGENCY: Federal Trade Commission (“FTC” or “Commission”).

ACTION: Notice; correction.

SUMMARY: The Federal Trade Commission published a document in the Federal Rgister of August 27, 2010, revising several of the notices that it is required to publish under the Privacy Act of 1974 to describe its systems of records about individuals. The document contained an incorrect change to one of the notices, FTC-I-1, System Name: Nonpublic Investigational and Other Nonpublic Legal Program Records. The heading under routine uses was improperly identified and this notice corrects that paragraphing error. We have also clarified that the records subject to this routine usage involve only the specific types of debt-related records as set out in the correction below.

FOR FURTHER INFORMATION CONTACT: Requests for additional information should be addressed to Richard Gold, Attorney, Office of the General Counsel, Federal Trade Commission, 600 Pennsylvania Avenue, NW., H-576, Washington, DC 20580, (202) 326-3355.

Correction: In the Federal Register of August 27, 2010, in FR Doc. 2010-21318, on page 52750, in the second column, under FTC-I-1, System Name: Nonpublic Investigational and Other Nonpublic Legal Program Records, correct starting at the third line to read:

“Routine Uses Of Records Maintained In The System, Including Categories Of Users And The Purposes Of Such Uses:

* * * * *

(5) Disclosed, to the extent that the records relate to a debt owed to the United States, through one or more of its departments and agencies; and/or States, territories and commonwealths of the United States, and the District of Columbia, for any other routine use set forth in the Government-wide system of records notice published for this system by the Department of Treasury, Financial Management System, see TREASURY/FMS.014, or any successor TREASURY/FMS system notice that may be published for this system (visit (http://www.ustreas.gov) for more information).”

David C. Shonka,
Acting General Counsel.

[FR Doc. 2010-24369 Filed 9-28-10; 8:45 am]

BILLING CODE 6750-01-P